DEPARTMENT OF HEALTH AND HUMAN SERVICES

Centers for Disease Control and Prevention

[30Day-06-05BI]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Surveys of Past HIV Prevention Technology Transfer Efforts—New—National Center for HIV, STD, and TB Prevention (NCHSTP), Centers for Disease Control and Prevention (CDC).

Background and Brief Description

The purpose of these surveys is to study the effectiveness of providing HIV prevention agencies with packages intervention, training, and technical assistance to ensure the agencies' maintenance of the intervention. CDC will use the results of the surveys to develop a national program for dissemination and support of packaged interventions that will increase the likelihood that agencies will conduct them with total fidelity for several years. The respondents are staff members of 16 prevention agencies that implemented one of five unique, packaged interventions between 1997 and 2000 as part of CDC's ongoing Replicating Effective Programs (REP) project.

A survey will be administered over the telephone to agency administrators of the 16 prevention agencies that implemented intervention packages by the REP project. Additional surveys will be administered in-person to one Intervention Supervisor and two Intervention Facilitators at agencies that are continuing to implement the REP-packaged intervention. The objectives of the surveys include, but are not limited to (a) identification of factors associated with maintenance and termination of REP-packaged interventions; (b) determination of why and how agencies adapted the packaged interventions; (c) examination of the impact of elapsed time on maintenance of the intervention and fidelity to intervention protocols; (d) identification of any differences between the type of agency (e.g., community-based organization or health department) on maintenance and fidelity; (e) identification of any difference between the type of original researcher (e.g., academic or non-profit) on maintenance and fidelity; (f) identification of perceived and actual benefits as well as instrumental and conceptual utility of REP-packaged interventions that can be used in marketing the intervention packages to other HIV prevention providers. Researchers administering the in-person surveys will also assess fidelity to intervention protocols by observing facilitators delivering the intervention and by recording their observations on a checklist designed for the particular intervention being observed.

Survey questionnaire data will be collected once from each respondent (i.e., agency administrator, intervention supervisor, intervention facilitator). CDC is requesting OMB approval to collect this data for one year. There are no costs to the respondents other than their time. Total burden hours for this data collection are 105 hours.

Estimated Annualized Burden Hours
Respondents | Number of respondents | Number of responses per respondent | Average burden per response (in hours)
Agency Administrators (content review) | 16 | 1 | 20/60
Agency Administrators (questionnaire) | 16 | 1 | 1.5
Intervention Supervisors | 15 | 1 | 1.5
Intervention Facilitators | 30 | 1 | 1.75

Dated: November 18, 2005.
Betsey Dunaway,
Acting Reports Clearance Officer, Centers for Disease Control and Prevention.

[FR Doc. E5-6670 Filed 11-28-05; 8:45 am]

BILLING CODE 4163-18-P